DEPARTMENT OF COMMERCE

National Oceanic and Atmospheric Administration

[I.D. 103000C]

Marine Mammals; File No. 821-1588

AGENCY: National Marine Fisheries Service (NMFS), National Oceanic and Atmospheric Administration (NOAA), Commerce.

ACTION: Receipt of application.

SUMMARY: Notice is hereby given that Texas A&M University, Department of Marine Biology, 5007 Avenue U, Galveston, TX 776551, (Principal Investigator: Dr. Randall W. Davis), has applied in due form for a permit to take marine mammals for purposes of scientific research.

DATES: Written or telefaxed comments must be received on or before December 20, 2000.

ADDRESSES: The application and related documents are available for review upon written request or by appointment in the following office(s):

Permits and Documentation Division, Office of Protected Resources, NMFS, 1315 East-West Highway, Room 13130, Silver Spring, MD 20910 (301/713-2289);

Regional Administrator, Southeast Region, NMFS, 9721 Executive Center Drive North, St. Petersburg, FL 33702-2432 (813/570-5312);and

Regional Administrator, Southwest Region, NMFS, 501 West Ocean Blvd., Suite 4200, Long Beach, CA 90802-4213 (562/980-4001).

FOR FURTHER INFORMATION CONTACT: Ruth Johnson and Simona Roberts, 301/713-2289.

SUPPLEMENTARY INFORMATION: The subject permit is requested under the authority of the Marine Mammal Protection Act of 1972, as amended (MMPA; 16 U.S.C. 1361 et seq.), the Regulations Governing the Taking and Importing of Marine Mammals (50 CFR part 216), the Endangered Species Act of 1973, as amended (ESA; 16 U.S.C. 1531 et seq.), and the regulations governing the taking, importing, and exporting of endangered and threatened species (50 CFR 222-227).

The application has three different projects: PROJECT I. — Hunting Behavior and Energics of Weddell Seals: Up to 40 Weddell seals (Leptonychotes weddellii) will be captured, tagged, handled, annually. The study will investigate the behavioral and energetic adaptations that enable Weddell seals to forage in the Antarctic fast-ice environment. Hypotheses on general foraging strategies, searching behavior, searching mechanics, modes of swimming, metabolic costs of foraging and foraging efficiency for different environmental conditions and prey type will be tested. Activities will occur in Antarctica.

PROJECT II — Stock Assessment: Up to 28 species of cetaceans will be taken by photo-id/photogrammery, behavioral observation, biopsy sampling and satellite tagging. The goals of this research are to study cetacean behavior through direct observation and by attaching SLTDRs and video camera/data recorders to certain species.

PROJECT III — Physiological Adaptations and Genetics Using Tissues of Marine Mammals: Import/export specimen materials from South Africa, Canada, and other locations as specimens may become available. This study of diving adaptations of marine mammals muscle, skeletal material, and other related samples will be obtained from South Africa, Canada, and possibly other locations.

In compliance with the National Environmental Policy Act of 1969 (42 U.S.C. 4321 et seq.), an initial determination has been made that the activity proposed is categorically excluded from the requirement to prepare an environmental assessment or environmental impact statement.

Written comments or requests for a public hearing on this application should be mailed to the Chief, Permits and Documentation Division, F/PR1, Office of Protected Resources, NMFS, 1315 East-West Highway, Room 13705, Silver Spring, MD 20910. Those individuals requesting a hearing should set forth the specific reasons why a hearing on this particular request would be appropriate.

Comments may also be submitted by facsimile at (301) 713-0376, provided the facsimile is confirmed by hard copy submitted by mail and postmarked no later than the closing date of the comment period. Please note that comments will not be accepted by e-mail or by other electronic media.

Concurrent with the publication of this notice in the Federal Register, NMFS is forwarding copies of this application to the Marine Mammal Commission and its Committee of Scientific Advisors.

Dated: November 7, 2000.
Ann D. Terbush,
Chief, Permits and Documentation Division, Office of Protected Resources, National Marine Fisheries Service.

[FR Doc. 00-29638 Filed 11-17-00; 8:45 am]

BILLING CODE 3510-22-S